ENVIRONMENTAL PROTECTION AGENCY

[ER-FRL-9010-6]

Environmental Impacts Statements; Notice of Availability

Responsible Agency: Office of Federal Activities, General Information (202) 564-7146 or http://www.epa.gov/compliance/nepa/.

Weekly receipt of Environmental Impact Statements Filed 08/05/2013 Through 08/09/2013.

Pursuant to 40 CFR 1506.9.

Notice

Section 309(a) of the Clean Air Act requires that EPA make public its comments on EISs issued by other Federal agencies. EPA's comment letters on EISs are available at: http://www.epa.gov/compliance/nepa/eisdata.html.

EIS No. 20130236, Final EIS, NIH, MD, National Institute of Health Animal Center Master Plan, Review Period Ends: 09/16/2013, Contact: Valerie Nottingham 301-496-7775.

EIS No. 20130237, Final EIS, NMFS, NJ, FEIS Amendment 14 to the Atlantic Mackerel, Squid, and Butterfish Fishery Management Plan, Review Period Ends: 10/14/2013, Contact: Aja Szumylo 978-281-9195.

EIS No. 20130238, Draft EIS, USACE, NC, Bogue Banks Coastal Storm Damage Reduction, Comment Period Ends: 09/30/2013, Contact: Eric Gasch 910-251-4553.

EIS No. 20130239, Draft EIS, BLM, USFS, CO, Northwest Colorado Greater Sage-Grouse Draft Resource Management Plan Amendment, Comment Period Ends: 11/13/2013, Contact: Erin Jones 970-244-3008.

The U.S. Department of the Interior's Bureau of Land Management and the U.S. Department of Agriculture's Forest Service are joint lead agencies for the above EIS.

EIS No. 20130240, Draft EIS, USA, AZ, PROGRAMMATIC—Yuma Proving Ground Activities and Operations, Comment Period Ends: 09/30/2013, Contact: Mr. Chuck Wullenjohn 928-328-6189.

EIS No. 20130241, Final EIS, USACE, FL, Tarmac King Road Limestone Mine, Review Period Ends: 09/16/2013, Contact: Edward Sarfert 850-439-9533.

EIS No. 20130242, Final EIS, FHWA, IN, I-69 Evansville to Indianapolis, Indiana Project, Section 5, Bloomington to Martinsville, Contact: Michelle Allen 317- 226-7344.

Under MAP-21 section 1319, FHWA has issued a single FEIS and ROD. Therefore, the 30-day wait/review period under NEPA does not apply to this action.

EIS No. 20130243, Draft EIS, FHWA, DE, US 113 North/South Millsboro South Area, Comment Period Ends: 10/04/2013, Contact: Nick Blendy 302-734-2966.

Dated: August 13, 2013.
Cliff Rader,
Director, NEPA Compliance Division, Office of Federal Activities.

[FR Doc. 2013-20019 Filed 8-15-13; 8:45 am]

BILLING CODE 6560-50-P